DEPARTMENT OF AGRICULTURE

Farm Service Agency

Information Collection; Request for Aerial Photography

AGENCY: Farm Service Agency, USDA.

ACTION: Notice and request for comments.

SUMMARY: In accordance with the Paperwork Reduction Act of 1995, the Farm Service Agency (FSA) is requesting comments from all interested individuals and organizations on a revision of a currently approved information collection, Request for Aerial Photography. The revision adds two new collections to the existing information collection. The new Aerial Photography Field Office (APFO) Service Quality Survey will be provided to the customers who purchased the aerial photography and the collected information will be used to improve the products and services. The new APFO Custom Digital Print Request will be available to the producers, ranchers and other customers to place a special order for aerial custom digital print.

DATES: We will consider comments that we receive by June 1, 2009.

ADDRESSES: We invite you to submit comments on this notice. In your comments, include the date, volume and page number of this issue of the Federal Register. You may submit comments by any of the following methods:

• Mail: David Parry, Supervisor, USDA, Farm Service Agency, APFO Customer Service Section, 2222 West 2300 South Salt Lake City, Utah 84119-2020.

• E-mail: david.parry@slc.usda.gov.

• Fax: 801-956-3653.

You may also send comments to the Desk Officer for Agriculture, Office of Information and Regulatory Affairs, Office of Management and Budget, Washington, DC 20503.

Copies of the information collection may be obtained from David Parry at the above address.

FOR FURTHER INFORMATION CONTACT: David Parry, Supervisor, APFO Customer Service Section, (801) 844-2922.

SUPPLEMENTARY INFORMATION: Title: Request for Aerial Photography.

OMB Control Number: 0560-0176.

Type of Request: Revision.

Abstract: This information collection is needed to enable the Department of Agriculture to effectively administer the Aerial Photography Program. The Aerial Photography Field Office (APFO) has the authority to coordinate aerial photography, remote sensing programs and the aerial photography flying contract programs. The digital and film imagery secured by FSA is public domain and reproductions are available at cost to any customer with a need. All information regarding the use of aerial photography products and services are retained by FSA.

The following two new collections will be added to the currently approved information collection. The APFO Service Quality Survey will be given to the customers to obtain feedback on aerial imagery products and services when they purchase the aerial photography. The collected information from the survey will be used to improve the products and services. Also, the Custom Digital Print Request is the new form that APFO will supply to the customers for placing an order for custom aerial imagery products and services.

Estimate of Burden: Public reporting burden for this information collection is estimated to average 10 minutes per response for Custom Digital Print Request and average 5 minutes per response for Service Quality Survey.

Respondents: Farmers, Ranchers and other USDA customers who purchase imagery products and services.

Estimated Number of Respondents: 600 respondents for APFO Service Quality Survey and 1,200 respondents for Custom Digital Request.

Estimated Number of Responses per Respondent: 1.

Estimated Total Annual Burden on Respondents: in hours. 100 for Custom Digital Print request and 100 for Service Quality Survey.

Comments are invited on:

(1) Whether the collection of information is necessary for the proper performance of the functions of the agency, including whether the information will have practical utility;

(2) The accuracy of the agency's estimate of the burden, including the validity of the methodology and assumptions used;

(3) Enhancing the quality, utility and clarity of the information to be collected; and

(4) Minimizing the burden of the information collection on those who are to respond, including the use of appropriate automated, electronic, mechanical, or other technological collection techniques or other forms of information technology.

All responses to this notice will be summarized and included in the request for OMB approval. All comments will also become a matter of public record.

Signed in Washington, DC, on March 26, 2009.
Robert Stephenson,
Acting Administrator, Farm Service Agency.

[FR Doc. E9-7246 Filed 3-31-09; 8:45 am]

BILLING CODE 3410-05-P